DEPARTMENT OF TRANSPORTATION

Federal Aviation Administration

Aviation Rulemaking Advisory Committee: General Aviation and Business Airplane and General Aviation Operations Issues

AGENCY: Federal Aviation Administration (FAA), DOT.

ACTION: Notice of establishment of the General Aviation Certification and Operations Issues, Aviation Rulemaking Advisory Committee (ARAC).

SUMMARY: Notice is given of the decision to combine activities of General Aviation and Business Airplanes with General Aviation Operations. The activities are retitled General Aviation Certification and Operations. This notice informs the public of the decision to consolidate these ARAC activities.

FOR FURTHER INFORMATION CONTACT: Mike Dahl, Federal Aviation Administration, Central Region Headquarters, 901 Locust, Kansas City, Missouri 64106, Telephone: (816) 329-4110, FAx (816) 329-4090, or e-mail, mike.dahl@faa.gov.

SUPPLEMENTARY INFORMATION:

Background

On January 14, 1991, the Federal Aviation Administration (FAA) announced the establishment of the Aviation Rulemaking Advisory Committee (56 FR 2190, January 22, 1991). The committee held its first meeting at Baltimore, MD, on May 23, 1991 (56 FR 20492, May 3, 1991). At that meeting the Aviation Rulemaking Advisory committee accepted General Aviation and Business Airplanes (GABA) as an issue on which it would provide advice and recommendations to the FAA regarding the airworthiness standards for small general aviation and business airplanes. Later that year, the FAA published notice of ARAC's acceptance of activities concerning General Aviation Operations (56 FR 199; October 15, 1991). Under this issue, ARAC would provide advice and recommendations to the FAA on activities concerning operation of general aviation aircraft. The FAA does not anticipate a change in the range of activities as a result of the consolidation of these issues. The decision to combine the two issues should result in more efficient use of resources and ensure that decisions concerning certification and operation of small airplanes are consistently applied. General Aviation Certification and Operations will continue to address those issues, as well as FAA/JAA harmonization issues.

The leadership and operating procedures for General Aviation Certification and Operations will be similar to the current structure, except there will be Co-Assistant Executive Directors with respective alternates working within respective areas of expertise.

Recommendations concerning General Aviation Certification and Operations may include reports, proposed rules, and guidance and advisory materials and should be harmonized to the maximum extent practicable. The ARAC may choose to establish working groups to provide technical support in carrying out the tasks assigned.

Participation

The Aviation Rulemaking Advisory Committee on General Aviation Certification and Operations is composed of representatives from organizations who have interest in and can provide the technical expertise needed to develop recommendations on tasks assigned by the FAA. ARAC Members who previously expressed interest in and support activities concerning General Aviation and Business Airplanes or General Aviation Operations and any other members who are now interested in supporting General Aviation Certification and Operations are asked to validate your interest by contacting the person listed under the FOR FURTHER INFORMATION CONTACT. All requests for validation and participation must be received no later than March 30, 2001. The Assistant Chairs and Assistant Executive Directors will review the requests and advise the individuals whether or not their request will be accommodated.

Organizations chosen to support General Aviation Certification and Operations are expected to provide a primary representative who will represent that segment of the aviation industry/community and actively participate in activities associated with this issue. Member organizations are expected to support the activities of this issue area to ensure assigned deadlines are met.

The Secretary of Transportation has determined that the formation and use of ARAC is necessary and in the public interest in connection with the performance of duties imposed on the FAA by law.

Meetings of ARAC on General Aviation Certification and Operations will be open to the public. The FAA will make a public announcement of each ARAC meeting on this issue.

Issued in Washington, DC on Februayr 27, 2001.
Anthony F. Fazio,
Executive Director, Aviation Rulemaking Advisory Committee.

[FR Doc. 01-5140 Filed 3-1-01; 8:45 am]

BILLING CODE 4910-13-M